DEPARTMENT OF ENERGY

Federal Energy Regulatory Commission

Notice of FERC Staff Attendance at Southwest Power Pool Markets and Operations Policy Committee Meetings

December 22, 2009.

The Federal Energy Regulatory Commission hereby gives notice that members of its staff may attend the meetings of the Southwest Power Pool (SPP) Markets and Operations Policy Committee, as noted below. Their attendance is part of the Commission's ongoing outreach efforts.

SPP Markets and Operation Policy Committee Meetings

January 12, 2010 (1 p.m.-5 p.m. CST), January 13, 2010 (8 a.m.-3 p.m. CST).

Sheraton New Orleans Hotel, 500 Canal Street, New Orleans, LA 70130, 504-525-2500.

The discussions may address matters at issue in the following proceedings:

Docket No. EL09-40, Southwest Power Pool, Inc.

Docket No. ER06-451, Southwest Power Pool, Inc.

Docket No. ER08-923, Xcel Energy Services, Inc.

Docket No. ER08-1307, Southwest Power Pool, Inc.

Docket No. ER08-1308, Southwest Power Pool, Inc.

Docket No. ER08-1357, Southwest Power Pool, Inc.

Docket No. ER08-1358, Southwest Power Pool, Inc.

Docket No. ER08-1359, Southwest Power Pool, Inc.

Docket No. ER08-1419, Southwest Power Pool, Inc.

Docket No. ER09-35, Tallgrass Transmission LLC.

Docket No. ER09-36, Prairie Wind Transmission LLC.

Docket No. ER09-1397, Southwest Power Pool, Inc.

Docket No. ER09-1562, Southwest Power Pool, Inc.

Docket No. ER09-659, Southwest Power Pool, Inc.

Docket No. ER09-1050, Southwest Power Pool, Inc.

Docket No. ER09-1254, Southwest Power Pool, Inc.

Docket No. ER09-1255, Southwest Power Pool, Inc.

Docket No. ER09-1397, Southwest Power Pool, Inc.

Docket No. ER09-1716, Southwest Power Pool, Inc.

Docket No. ER09-1740, Southwest Power Pool, Inc.

Docket No. ER10-144, Southwest Power Pool, Inc.

Docket No. ER10-181, Southwest Power Pool, Inc.

Docket No. ER10-195, Southwest Power Pool, Inc.

Docket No. ER10-196, Southwest Power Pool, Inc.

Docket No. ER10-197, Southwest Power Pool, Inc.

Docket No. ER10-215, Southwest Power Pool, Inc.

Docket No. ER10-242, Southwest Power Pool, Inc.

Docket No. ER10-261, Southwest Power Pool, Inc.

Docket No. ER10-267, Southwest Power Pool, Inc.

Docket No. ER10-273-000, Southwest Power Pool, Inc.

Docket No. ER10-329, Southwest Power Pool, Inc.

Docket No. ER10-330, Southwest Power Pool, Inc.

Docket No. ER10-331, Southwest Power Pool, Inc.

Docket No. ER10-333, Southwest Power Pool, Inc.

Docket No. ER10-334, Southwest Power Pool, Inc.

Docket No. ER10-335, Southwest Power Pool, Inc.

Docket No. ER10-336, Southwest Power Pool, Inc.

Docket No. ER10-337, Southwest Power Pool, Inc.

Docket No. ER10-338, Southwest Power Pool, Inc.

Docket No. ER10-339, Southwest Power Pool, Inc.

Docket No. ER10-341, Southwest Power Pool, Inc.

Docket No. ER10-353, Southwest Power Pool, Inc.

Docket No. ER10-368, Southwest Power Pool, Inc.

Docket No. ER10-370, Southwest Power Pool, Inc.

Docket No. ER10-376, Southwest Power Pool, Inc.

Docket No. ER10-380, Southwest Power Pool, Inc.

Docket No. ER10-368, Southwest Power Pool, Inc.

Docket No. ER09-342, Southwest Power Pool, Inc.

Docket No. ER10-352, Southwest Power Pool, Inc.

Docket No. ER10-364, Southwest Power Pool, Inc.

Docket No. ER10-365, Southwest Power Pool, Inc.

Docket No. OA08-5, Southwest Power Pool, Inc.

Docket No. OA08-60, Southwest Power Pool, Inc.

Docket No. OA08-61, Southwest Power Pool, Inc.

Docket No. OA08-104, Southwest Power Pool, Inc.

These meetings are open to the public.

For more information, contact Patrick Clarey, Office of Energy Market Regulation, Federal Energy Regulatory Commission at (317) 249-5937 or patrick.clarey@ferc.gov.

Kimberly D. Bose,
Secretary.

[FR Doc. E9-30816 Filed 12-28-09; 8:45 am]

BILLING CODE 6717-01-P